DEPARTMENT OF ENERGY

Federal Energy Regulatory Commission

[Project No. 2361-056]

ALLETE, Inc.; Notice of Waiver of Water Quality Certification

On December 20, 2021, ALLETE, Inc. (ALLETE) filed an application for a license for the Prairie River Hydroelectric Project in the above captioned docket. On December 14, 2022, Minnesota Pollution Control Agency received a complete request for a Clean Water Act section 401(a)(1) water quality certification from ALLETE, in conjunction with the above captioned project.

On December 21, 2022, staff provided Minnesota Pollution Control Agency with written notice that the applicable reasonable period of time for it to act on the certification request was one (1) year from the date of receipt of the request, and that the certification requirement for the license would be waived if the certifying authority failed to act by December 14, 2023. Because Minnesota Pollution Control Agency did not act by December 14, 2023, we are notifying you pursuant to section 401(a)(1) of the Clean Water Act, 33 U.S.C. 1341(a)(1), that waiver of the certification requirement has occurred.

Dated: February 9, 2024.
Debbie-Anne A. Reese,
Acting Secretary.

[FR Doc. 2024-03169 Filed 2-14-24; 8:45 am]

BILLING CODE 6717-01-P